DEPARTMENT OF TRANSPORTATION

Federal Highway Administration

Notice of Final Federal Agency Actions on Proposed Highway in California

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to: the proposed State Route 46 highway project, in the City of Wasco between Kilo Posts 74.03/82.43 (Post Miles 46.00/51.22) in Kern County, State of California; and, the proposed Westside Parkway Project between Heath Road and SR-99 in Bakersfield, Kern County, State of California. Those actions grant approvals for the two proposed projects.

DATES: By this notice, the FHWA is advising the public of final agency actions subject to 23 U.S.C. 139(l)(1). A claim seeking judicial review of the Federal agency actions on the highway project will be barred unless the claim is filed on or before January 30, 2008. If the Federal law that authorizes judicial review of a claim provides a time period of less than 180 days for filing such claim, then that shorter time period still applies.

FOR FURTHER INFORMATION CONTACT: Mayela Sosa, Project Development Team Leader, Federal Highway Administration, 650 Capitol Mall, Suite 4-100, Sacramento, CA 95814; weekdays 7 a.m. to 4 p.m.(Pacific time); telephone (916) 498-5057; e-mail: mayela.sosa@fhwa.dot.gov. Juergen Vespermann, Senior Environmental Planner, California Department of Transportation (Caltrans), 2015 E. Shields Avenue #100, Fresno, CA 93726; weekdays 7 a.m. to 4 p.m. (Pacific time); telephone (559) 243-8157; e-mail: juergen_vespermann@dot.ca.gov.

SUPPLEMENTARY INFORMATION: Notice is hereby given that the FHWA and other Federal agencies have taken final agency actions by issuing approvals for the following highway projects in the State of California. It is proposed to widen State Route 46 from a two-lane conventional highway to a four-lane conventional highway, four-lane expressway, or combination of the two between the Jumper Avenue alignment (along the west side of the Wasco State Prison) and “J” Street (State Route 43-North), from kilometer posts 74.03 to 82.43 (post mile 46.00 to 51.22), in the City of Wasco in Kern County, California. Additionally, the Westside Parkway facility is proposed as an 8.1-mile-long eight-lane freeway from approximately Heath Road to a point near SR-99 at Truxtun Avenue in the City of Bakersfield and an unincorporated portion of Kern County. The project would cross a number of existing features such as other roadways, canals, and the Kern River. The project also includes the extension of Mohawk Street south from Rosedale Highway, across the Kern River, to Truxtun Avenue. In addition to connecting to Stockdale Highway and Truxtun Avenue, interchanges would be provided at Allen Road, Calloway Drive, Coffee Road, and Mohawk Street. Grade-separations would be constructed at Jewetta Avenue and Renfro Road to carry local roadways over the Westside Parkway.

The actions by the Federal agencies and the laws under which such actions were taken on the proposed State Route 46 project are described in the Environmental Assessment (EA)/Finding of No Significant Impact (FONSI) for the project, approved on November 14, 2006 and in other documents in the FHWA administrative record. For the Westside Parkway facility, the actions by the Federal agencies, and the laws under which such actions were taken, are described in the Tier 2 Environmental Assessment/Final Environmental Impact Report (EA/FEIR) with Finding of No Significant Impact (FONSI) for the project, approved on January 9, 2007 and in other documents in the FHWA administrative record. The EAs/FONSIs and other documents are available by contacting FHWA or Caltrans at the addresses provided above.

This notice applies to all Federal agency decisions as of the issuance date of this notice and all laws under which such actions were taken, including but not limited to:

1. General: National Environmental Policy Act (NEPA) [42 U.S.C. 4321-4351]; and Federal-Aid Highway Act [23 U.S.C. 109 and 23 U.S.C. 128].

2. Air: Clean Air Act [42 U.S.C. 7401-7671(q)].

3. Land: Landscape and Scenic Enhancement (Wildflowers) [23 U.S.C. 319].

4. Wetlands and Water Resources: Safe Drinking Water Act [42 U.S.C. 300(f)-300(j)(6)]; and Wetlands Mitigation [23 U.S.C. 103(b)(6)(m) and 133(b)(11)].

5. Wildlife: Endangered Species Act [16 U.S.C. 1531-1544 and Section 1536]; Fish and Wildlife Coordination Act [16 U.S.C. 661-667(d)]; and Migratory Bird Treaty Act [16 U.S.C. 703-712].

6. Historic and Cultural Resources: Section 106 of the National Historic Preservation Act of 1966, as amended [16 U.S.C. 470(f) et seq.]; Archaeological and Historic Preservation Act [16 U.S.C. 469-469c]; Archaeological Resources Protection Act of 1979 [16 U.S.C. 470 et seq.]; and Native American Graves Protection and Repatriation Act [25 U.S.C. 3001-3013].

7. Social and Economic: Civil Rights Act of 1964 [42 U.S.C. 2000(d)-2000(d)(1)]; Farmland Protection Policy Act [7 U.S.C. 4201-4209]; and The Uniform Relocation Assistance and Real Property Acquisition Act of 1970, as amended.

8. Hazardous Materials: Comprehensive Environmental Response, Compensation, and Liability Act [42 U.S.C. 9601-9675]; Superfund Amendments and Reauthorization Act of 1986; and Resource Conservation and Recovery Act [42 U.S.C. 6901-6992(k)].

9. Executive Orders: E.O. 11990 Protection of Wetlands; E.O. 11988 Floodplain Management; E.O.12898 Federal Actions to Address Environmental Justice in Minority Populations and Low Income Populations; E.O. 11593 Protection and Enhancement of the Cultural Environment; E.O. 13007 Indian Sacred Sites; E.O. 13287 Preserve America; 13175 Consultation and Coordination with Indian Tribal Governments; E.O. 11514 Protection and Enhancement of Environmental Quality; and E.O. 13112 Invasive Species.

(Catalog of Federal Domestic Assistance Program Number 20.205, Highway Planning and Construction. The regulations implementing Executive Order 12372 regarding intergovernmental consultation on Federal programs and activities apply to this program)

Authority: 23 U.S.C. 139(l)(1).

Issued on: July 26, 2007.
Maiser Khaled,
Director, Project Development and Environment, Sacramento, California.

[FR Doc. E7-15098 Filed 8-2-07; 8:45 am]

BILLING CODE 4910-RY-P